DEPARTMENT OF TRANSPORTATION

Federal Highway Administration

[Docket No. FHWA-2013-0048]

Notice of Funding Availability for Accelerated Innovation Deployment Demonstration

AGENCY: Federal Highway Administration (FHWA), Department of Transportation (DOT).

ACTION: Notice of funding availability.

SUMMARY: This final notice announces the availability of funding and requests grant applications for FHWA's Accelerated Innovation Deployment (AID) Demonstration authorized within the Technology and Innovation Deployment Program (TIDP) under the Moving Ahead for Progress in the 21st Century Act (MAP-21). In addition, this final notice addresses comments received on the interim notice of funding availability (Docket No. FHWA-2013-0048), announces selection criteria, application requirements, and technical assistance during the grant solicitation period for the AID Demonstration. The FHWA's response to the comments and revisions made in this final notice are described below in the SUPPLEMENTARY INFORMATION section.

DATES: Applications must be submitted through Grants.gov. Applicants are encouraged to submit applications as soon as the eligible project is within six months of being initiated. Completed applications will be evaluated and award determinations made on a rolling basis until the program ends or funding is no longer available. Information will be updated on FHWA's Web site at http://www.fhwa.dot.gov/accelerating/grants to notify applicants of the status of the program and availability of funding. The FHWA plans to conduct outreach regarding the AID Demonstration in the form of a Webinar within 2 weeks of this notice being issued. Participants can pre-register online at: https://connectdot.connectsolutions.com/aiddemo/event/event_info.html. Information on the Webinar date and time will be emailed to registered participants. The Webinar will be recorded and posted on FHWA's Web site at http://www.fhwa.dot.gov/accelerating/grants.

ADDRESSES: Applications must be submitted electronically through Grants.gov. The FHWA will not accept applications that are sent directly to FHWA outside of the Grants.gov process. Instructions for submitting through Grants.gov are included in Section VI (E) of this final notice.

FOR FURTHER INFORMATION CONTACT: Ms. Ewa Flom, Program Manager, Center for Accelerating Innovation, Federal Highway Administration, 1200 New Jersey Avenue SE., Washington, DC 20590, (202) 366-2169; or Ms. Seetha Srinivasan, Office of the Chief Counsel, Federal Highway Administration, 1200 New Jersey Avenue SE., Washington, DC 20590, (202) 366-4099. Office hours are from 8:00 a.m. to 4:30 p.m., Eastern Standard Time Monday through Friday, except Federal holidays. A TDD is available for individuals who are deaf or hard of hearing at (202) 366-3993.

In addition, the FHWA will regularly post answers to questions and requests for clarifications on FHWA's Web site at http://www.fhwa.dot.gov/accelerating/grants. Applicants are encouraged to contact FHWA directly to receive information about AID Demonstration.

SUPPLEMENTARY INFORMATION: On November 1, 2013, the FHWA published an interim notice of funding availability (NOFA) for the AID Demonstration Program (Docket No. FHWA-2013-0048). The interim notice requested comments on the proposed selection criteria, evaluation criteria, and evaluation requirements for AID Demonstration funding. The FHWA considered comments that were received from seven commenters, including two anonymous, two private citizens, one not-for-profit research organization, one State DOT, and one municipal government. The FHWA revised elements of the notice as described below. There was an editorial error made in the Table of Contents by listing a subsection heading of “Protection of Confidential Business Information” under Section VI (Application Process). There was no information provided and no need for this subsection. As a result, the subsection heading has been deleted.

Response to Comments

1. The FHWA received a question from an anonymous commenter in reference to whether AID Demonstration funds can be used to do research and conduct full-scale crash testing of products. AID Demonstration funds are intended to accelerate the implementation and adoption of innovation in highway transportation. The funds are to be used for deployment, not for research or testing, of proven innovative practices or technologies.

2. The FHWA received a comment from a private citizen requesting consideration of applications from consortiums, including State DOTs, universities and industry, on novel materials, methods, and technologies to be considered through a phased product development program. The FHWA believes that this is not within the scope or intent of the AID Demonstration program. The use of AID Demonstration funds is for deployment of proven innovative practices or technologies. There are other programs, such as the Transportation Pooled Fund program, that may be better suited for a product development approach. However, the FHWA encourages applicants to cooperate and coordinate with other entities as needed. The narrative application includes identification of the applicant, subrecipient, and a description of cooperation with any other entity involved in the project.

3. The FHWA received questions from an anonymous commenter in reference to the eligibility of technologies that focus on the operation of highway transportation commercial vehicle programs and technology innovations that are added to existing infrastructure. As described in Section III (Eligibility), AID Demonstration funds are available for any project eligible for assistance under title 23, United States Code. Eligible projects may involve any aspect of highway transportation including planning, financing, operation, structures, materials, pavements, environment, and construction that address the TIDP goals mentioned in Section I (Background).

4. The FHWA received a comment from a not-for-profit research organization requesting that we add language under Selection Criteria (or other appropriate section) to give priority funding consideration to projects that “leverage funding through participation in the Transportation Pooled Fund Program.” The AID Demonstration funding is intended to be used by an applicant on a project within their highway transportation program. The FHWA does not believe that this change is necessary because applicants have broad flexibility to select and leverage funding sources to advance projects.

5. The FHWA received a question from the Idaho DOT in reference to the Federal fund match requirements. To clarify, the AID Demonstration fund award is based on the cost of the innovation in a project, not the total project cost. The FHWA also encourages States to use Section 1304 of MAP-21 (23 U.S.C. 120(c)(3)) “Innovative Project Delivery Methods” on projects that may qualify to increase the Federal share by up to 5 percent. The awarded AID Demonstration funds would be used in place of other Federal program funds and do not otherwise modify the Federal fund match requirements. This clarification will be included in program guidance; however, no change is necessary to the NOFA.

6. The Idaho DOT also expressed concern that the rolling submittal process would not allow for FHWA to compare all of the applications submitted and would favor the first projects submitted, which may not necessarily be the best projects. The FHWA realizes that a rolling submittal may seem atypical for DOT grants and FHWA has considered setting specific and regular application due dates. Although the FHWA understands the perspective of the commenter, this program is intended to accelerate innovation deployment and we believe a rolling solicitation will award funds to projects that are ready to implement innovations immediately, such as the Every Day Counts initiatives. The FHWA believes that comparison of projects may not be relevant due to the broad range of eligible projects involving any aspect of highway transportation. As a result, no change is necessary to the NOFA.

7. The FHWA received a comment from the Boston, Massachusetts municipal government requesting that cities and local agencies be allowed to apply directly for AID Demonstration funds. The commenter was also concerned that the limitation of one project per State DOT may limit the opportunities for Metropolitan planning organizations and local governments. Pursuant to 23 CFR 635.105, “The STD has responsibility for the construction of all Federal-aid projects, and is not relieved of such responsibility by authorizing performance of the work by a local public agency or other Federal agency.” Metropolitan planning organizations and local governments are not able to apply as a direct recipient for AID Demonstration funding. However FHWA understands the commenter's concern in reference to the limitation on awards and State DOT project priorities. In the final NOFA, the limitation of one project per applicant is revised so that one project may be awarded to a State DOT and another project to a subrecipient. The change is reflected in Section II (Program Funding and Award), Section III (Eligibility), and Section IV (Selection Criteria).

8. The Boston, Massachusetts municipal government also suggested that the NOFA should specifically authorize funding for staff to implement the innovation being funded. In the narrative portion of the application, the applicant must specify the funding request including the basis for determining the cost of the innovation in the project. The FHWA believes that if funding for staff is part of the innovation cost for an eligible project, the applicant will need to include it in the application for consideration.

9. The FHWA received comments from a private citizen suggesting that the selection criteria be expanded to require applicants to indicate a willingness to participate in specific technology transfer as well as monitoring and assessment activities. The FHWA agrees that the suggested examples could be of value for applicants to consider, however due to the broad range of eligible projects, specifying activities would be too limiting. Examples of activities will be included in program guidance available on FHWA's Web site at http://www.fhwa.dot.gov/accelerating/grants as reference information; however, no change is necessary to the NOFA.

10. The same private citizen also suggested that the agency assign more weight to proposals that: Include two or more EDC activities as a package; include a team that incorporates a Professional Traffic Operation Engineer; or generate more direct jobs to strengthen the present and future transportation workforce. The FHWA encourages and supports the use of AID Demonstration grants to accelerate the deployment of EDC innovations and intends to give priority consideration to applications that include EDC innovations. The broad range of eligible projects does not lend itself to specifying team composition as criteria. It is assumed that accelerating innovation deployment and the variety of projects anticipated to receive funding would generate jobs supporting the transportation workforce. However, the FHWA believes the selection criteria must focus on the intent of the program in terms of project eligibility and innovation deployment, and therefore, no change is necessary.

This is the final NOFA; FHWA is no longer considering comments on the proposed selection and evaluation criteria for AID Demonstration. The selection and evaluation criteria, application requirements, and technical assistance established in this final NOFA will govern the program during the grant solicitation period.

Table of Contents

I. Background

II. Program Funding and Award

III. Eligibility

A. Entities Eligible To Apply for Funding

B. Eligible Uses of Funds

IV. Selection Criteria

V. Evaluation Process

VI. Application Process

A. Contents of Applications

B. Standard Form 424

C. Narrative

D. Contact Information

E. Additional Information on Applying Through Grants.gov

F. Experiencing Technical Issues With Grants.gov

VII. Performance Measurement

VIII. Questions and Clarifications

I. Background

On July 6, 2012, President Obama signed into law MAP-21 (Pub. L. 112-141), which amends 23 U.S.C. 503 for TIDP to implement accelerated innovation deployment; future strategic highway research program findings and results; and accelerated implementation and deployment of pavement technologies. The TIDP relates to all aspects of highway transportation including planning, financing, operation, structures, materials, pavements, environment, and construction.

Section 503(c)(1) specifies the following TIDP goals: (A) Significantly accelerate the adoption of innovative technologies by the surface transportation community; (B) provide leadership and incentives to demonstrate and promote state-of-the-art technologies, elevated performance standards, and new business practices in highway construction processes that result in improved safety, faster construction, reduced congestion from construction, and improved quality and user satisfaction; (C) construct longer-lasting highways through the use of innovative technologies and practices that lead to faster construction of efficient and safe highways and bridges; (D) improve highway efficiency, safety, mobility, reliability, service life, environmental protection, and sustainability; and (E) develop and deploy new tools, techniques, and practices to accelerate the adoption of innovation in all aspects of highway transportation.

II. Program Funding and Award

Section 51001 of MAP-21 authorized $62,500,000 for the TIDP for each of Fiscal Years (FY) 2013 and 2014. The funds are subject to obligation limitation that is established in appropriations law. The amount of TIDP budget authority available in a given year may be less than the amount authorized for that fiscal year.

The AID Demonstration is one aspect of the multifaceted TIDP approach. The FHWA expects approximately $15,000,000 to be made available in each of FY 2013 and FY 2014 for AID Demonstration. The FHWA will award AID Demonstration funds to multiple projects. The FHWA has funding award goals of up to $14,000,000 available to State departments of transportation (State DOT) and up to $1,000,000 available to Federal Land Management Agencies and tribal governments. Awards are limited to up to two projects per State DOT applicant, with up to one project award to a State DOT and up to one project award to a subrecipient applying through the State DOT, and limited to one project award per applicant for Federal Land Management Agencies and tribal governments, subject to the number of eligible applications and the availability of funds.

The amount of the award may be up to the full cost of the innovation, but only to a maximum of $1,000,000. States are also encouraged to use Section 1304 of MAP-21 “Innovative Project Delivery Methods” (23 U.S.C. 120(c)(3)) to increase the Federal share on these projects up to 5 percent. Information on the “Innovative Project Delivery Methods” provision is available at http://www.fhwa.dot.gov/map21/qandas/qaipd.cfm. These funding goals will be reviewed annually and may be adjusted to reflect current priorities and needs.

The FHWA will use an open, rolling solicitation. Applicants are encouraged to apply as soon as the eligible project is within 6 months of being initiated. Funds will be allocated upon award selection. Award recipients shall obligate the awarded funds to the project within 6 months of fund allocation.

Award recipients shall submit a final report to the FHWA within 6 months of project completion based on the plan described in Section VII (Performance Measurement) that documents the process, benefits, and lessons learned including development and/or refinement of guidance, specifications or other tools and methods to support rapid adoption of the innovation(s) as standard practice, as well as level of commitment by recipient to deploy the innovation as standard practice.

III. Eligibility

A. Entities Eligible To Apply for Funding

The AID Demonstration provides incentive funding for eligible entities to accelerate the implementation and adoption of innovation in highway transportation. Section 502(b)(3) of title 23, U.S.C., authorizes the Secretary to award research grants to a wide range of entities. The FHWA will provide AID Demonstration grants to eligible State DOTs, Federal Land Management Agencies, and tribal governments. We believe these entities are the most likely to fulfill the deployment goals of the AID Demonstration program, since they are actively engaged in the deployment of new technologies. Consistent with other FHWA funding provided to tribes, federally recognized tribe identified on the list of “Indian Entities Recognized and Eligible to Receive Services from the Bureau of Indian Affairs” (published at 77 FR 47868) is eligible to apply for AID Demonstration. Metropolitan planning organizations and local governments may apply through State DOT as a subrecipient. Applicants must submit applications electronically through Grants.gov.

The FHWA has funding award goals of up to $14,000,000 available to State DOTs and up to $1,000,000 available to Federal Land Management Agencies and tribal governments. Awards are limited to up to two projects per State DOT applicant, with up to one project award to a State DOT and up to one project award to a subrecipient applying through the State DOT, and limited to one project award per applicant for Federal Land Management Agencies and tribal governments, subject to the number of eligible applications and the availability of funds. These funding goals will be reviewed annually and may be adjusted to reflect current priorities and needs.

B. Eligible Uses of Funds

The AID Demonstration funds are available for any project eligible for assistance under title 23, United States Code. Eligible projects may involve any aspect of highway transportation including planning, financing, operation, structures, materials, pavements, environment, and construction that address the TIDP goals mentioned in Section I (Background). Projects eligible for funding shall include proven innovative practices or technologies, including infrastructure and non-infrastructure strategies or activities, which the applicant or subrecipient intends to implement and adopt as a significant improvement from the applicant's or the subrecipient's conventional practice.

The amount of the award may be up to the full cost of the innovation in the project, but only to a maximum of $1,000,000. States are also encouraged to use Section 1304 of MAP-21 (23 U.S.C. 120(c)(3)) “Innovative Project Delivery Methods” on projects that may qualify to increase the Federal share by up to 5 percent. Information on the “Innovative Project Delivery Methods” is available at http://www.fhwa.dot.gov/map21/qandas/qaipd.cfm.

IV. Selection Criteria

The FHWA will award TIDP AID Demonstration funds to projects based on the selection criteria outlined below.

The FHWA will use an open, rolling solicitation. Project readiness will be treated as primary selection criteria in FHWA's evaluation process. The project must be ready to be implemented within 6 months of applying for AID Demonstration funding. An eligible project shall include an innovation that aligns with the previously described TIDP goals. The innovation must be proven in real-world application with documented benefits (in a form that is publicly available or verifiable), not routinely used by the applicant or the subrecipient, and of significant improvement from the applicant's or the subrecipient's conventional practice. The FHWA encourages the use of innovations included in the Every Day Counts (EDC) initiative. Please go to the following link to see examples and benefits of EDC innovations: http://www.fhwa.dot.gov/everydaycounts/.

Awards are limited to up to two projects per State DOT applicant, with up to one project award to a State DOT and up to one project award to a subrecipient applying through the State DOT, and limited to one project award per applicant for Federal Land Management Agencies and tribal governments, subject to the number of eligible applications and the availability of funds. To ensure a wide variety of innovations and project types, the FHWA will also initially limit awards to three projects per innovation. If several applications submitted at the same time are rated as “Qualified” and exceed the amount of available funding, the FHWA intends to give priority funding consideration to projects that (1) have not received TIDP funding, and (2) use an innovation that is included in the EDC initiative.

In the application, the applicant or the subrecipient must indicate willingness to: (1) Participate in monitoring and assessment activities regarding the effectiveness of the innovation(s) and subsequent technology transfer and information dissemination activities associated with the project; (2) accept FHWA oversight of the project; and (3) conduct a before and after customer satisfaction determination for construction projects.

V. Evaluation Process

The FHWA will evaluate AID Demonstration applications in accordance with the evaluation process discussed below.

The FHWA will establish an evaluation team of technical and professional staff with relevant experience and/or expertise to review each application received by FHWA through Grants.gov. The evaluation team will be responsible for reviewing, evaluating, and rating the applications as well as making funding recommendations to FHWA senior leadership.

After reviewing the application, the evaluation team may contact the applicant to discuss the application and confirm understanding of the requirements for participation in AID Demonstration. Based on the information collected, the evaluation team will prepare a summary assessment rating the application along with the team's recommendation. The summary assessment and recommendation will be presented to FHWA senior leadership to make a final determination on the approval of the award.

A. Selection Criteria

All applications will be evaluated on a rolling basis and be assigned a rating of “Qualified” or “Not Qualified.” If several applications submitted at the same time are rated as “Qualified”, the FHWA will give priority funding consideration to projects that (1) have not received TIDP funding and (2) use an innovation that is included in the EDC initiative.

The ratings are as follows:

1. Qualified:

• Project ready to initiate within 6 months of applying for AID Demonstration funding;

• project innovation aligns with TIDP goals;

• innovation is proven in real-world application with documented benefits, and not routinely used by the applicant or the subrecipient;

• application describes the innovation's magnitude and scope of impact on the applicant's or the subrecipient's conventional practice;

• data is included that directly supports the requested funding amount;

• information provided on performance goals and measures for respective innovation demonstration and deployment activities;

• application indicates the applicant's or subrecipient's willingness to:

(1) Participate in monitoring and assessment activities regarding the effectiveness of the innovation(s) and subsequent technology transfer and information dissemination activities associated with the project;

(2) accept FHWA oversight of the project; and

(3) conduct before and after customer satisfaction determinations for construction projects.

2. Not Qualified:

• Project does not meet the eligibility requirements;

• application does not meet the “Qualified” rating;

• application fails to address one or more of the application requirements;

• applicant received AID Demonstration funding within the current fiscal year;

• three projects with the innovation were already awarded AID Demonstration funding.

VI. Application Process

A. Contents of Applications

The applicant shall include all of the information requested below in their applications. The FHWA may request applicants to supplement the data in the application, but encourages applicants to submit the most relevant and complete information they can provide. The applicant should, to the extent practicable, provide data and evidence of project merits in a form that is publicly available or verifiable.

A complete application will consist of: (1) The Standard Form 424 (SF 424) available from Grants.gov, and (2) the narrative attachment to the SF 424 as described below.

B. Standard Form 424, Application for Federal Assistance

Applicants should see http://apply07.grants.gov/apply/forms/sample/SF424_2_1-V2.1.pdf for instructions on completing the SF 424, which is part of the standard Grants.gov submission.

C. Narrative (Attachment to SF 424)

The applicant or subrecipient shall include the supplemental narrative in the attachments section of the SF 424 mandatory form in Grants.gov to successfully complete the application process.

The applicant or subrecipient shall respond to the application requirements described below. The supplemental narrative shall be prepared with standard formatting (e.g. a single-spaced document, using a standard 12-point font, such as Times New Roman, with 1-inch margins) and should not exceed five pages.

An application shall include information needed to verify that the project meets the statutory eligibility criteria as described in Section III (Eligibility) as well as other information required for FHWA to assess each of the criteria specified in Section IV (Selection Criteria). The applicant or subrecipient is required to demonstrate the responsiveness of the proposal to any pertinent selection criteria with the most relevant information that applicants can provide, regardless of whether such information is specifically requested or identified. The applicant or subrecipient shall provide concrete evidence of project milestones, financial capacity, and commitment in order to support project readiness.

For ease of review, the narrative should generally adhere to the following basic outline, and include relevant maps and graphics:

1. Project Abstract: Describe work that would be completed under the project, whether the project is a complete project or part of a larger project with prior investment, and the aspect of highway transportation and the TIDP goals that the innovation would address (maximum five sentences). The project abstract should succinctly describe how this specific request for AID Demonstration funding would be included in the project.

2. Project Description: Brief description of the project and project objective(s), the innovation and related documented benefits, the performance goals and measures for the innovation, current organizational/institutional experience with the innovation, and the significant improvement to conventional practice expected.

3. Innovation Performance: Brief description of how the innovation will be monitored, assessed, and documented to determine if the performance goals and measures are achieved, including a timeline of demonstration, deployment, implementation, and/or adoption activities.

4. Applicant information and coordination with other entities: Identification of applicant, and subrecipient if applicable; description of cooperation with other entities; and information regarding any other entities involved in the project.

5. Funding Request: Summary of the funding request including the basis for determining the cost of the innovation in the project. The applicant should also include the total project cost.

6. Eligibility and Selection Criteria: Brief description of how the project meets the statutory eligibility criteria as described in Section III (Eligibility) and the selection criteria identified in Section IV (Selection Criteria).

D. Contact Information

The applicant or subrecipient should include contact information requested as part of the SF-424. The FHWA will use this information to contact applicants and to inform parties of FHWA's decision regarding selection of projects. Contact information should be provided for a direct employee of the applicant. Contact information for a contractor, agent, or consultant of the lead applicant is insufficient for FHWA's purposes.

E. Additional Information on Applying Through Grants.gov

Applications for AID Demonstration shall be submitted through Grants.gov. To apply for funding through Grants.gov, applicants must be properly registered. Complete instructions on how to register and apply can be found at www.grants.gov. If interested parties experience difficulties at any point during the registration or application process, they should call the Grants.gov Customer Support Hotline at 1-800-518-4726, Monday-Friday from 7:00 a.m. to 9:00 p.m. Eastern Standard Time.

Registering with Grants.gov is a one-time process, however, processing delays may occur and it can take up to several weeks for first-time registrants to receive confirmation and a user password. Accordingly, FHWA highly recommends that potential applicants start the registration process as early as possible. In order to apply for AID Demonstration under this notice and to apply for funding through Grants.gov, all applicants are required to complete the following:

1. Acquire a Data Universal Numbering System (DUNS) Number. A DUNS number is required for Grants.gov registration. The Office of Management and Budget requires that all applicants for Federal funds include a DUNS number in their applications for a new award or renewal of an existing award. A DUNS number is a unique nine-digit sequence recognized as the universal standard for identifying and keeping track of entities receiving Federal funds. The identifier is used for tracking purposes and to validate address and point of contact information for Federal assistance applicants, recipients, and subrecipients. The DUNS number will be used throughout the grant life cycle. Obtaining a DUNS number is a free, one-time activity that can be completed by calling 1-866-705-5711 or by applying online at http://fedgov.dnb.com/webform.

2. Acquire or Renew Registration with the Central Contractor Registration (CCR) Database. All applicants for Federal financial assistance maintain current registrations in the CCR database. An applicant must be registered in the CCR to successfully register in Grants.gov. The CCR database is the repository for standard information about Federal financial assistance applicants, recipients, and subrecipients. Entities that have previously submitted applications via Grants.gov are already registered with CCR, as it is a requirement for Grants.gov registration. Please note, however, that applicants must update or renew their CCR registration at least once per year to maintain an active status, so it is critical to check registration status well in advance of relevant application deadlines. Information about CCR registration procedures can be accessed at: https://www.sam.gov/portal/public/SAM/.

3. Acquire an Authorized Organization Representative (AOR) and a Grants.gov Username and Password. Applicants will need to complete an AOR profile on Grants.gov and create a username and password. The assigned DUNS Number is required to complete this step. For more information about the registration process, go to: www.grants.gov/applicants/get_registered.jsp.

4. Acquire Authorization for the AOR from the E-Business Point of Contact (E-Biz POC). The E-Biz POC for the applicant must log in to Grants.gov to confirm the applicant as an AOR. Please note that there can be more than one AOR for each applicant.

5. Search for the Funding Opportunity on Grants.gov. Applicants can use the Catalog of Federal Domestic Assistance number for this solicitation, which is 20.200, titled Technology and Innovation Development Program, when searching for the AID Demonstration opportunity on Grants.gov.

6. Submit an Application Addressing All of the Requirements Outlined in this Notice of Funding Availability. Within 24 to 48 hours after submitting an electronic application, applicants should receive an email validation message from Grants.gov. The validation message will specify whether the application was received and validated or rejected, with an explanation.

Note: When uploading attachments, applicants should use generally accepted formats such as .pdf, .doc, and .xls. While applicants may imbed picture files such as .jpg, .gif, .bmp, in your files, they should not save and submit the attachment in these formats. Additionally, the following formats will not be accepted: .com, .bat, .exe, .vbs, .cfg, .dat, .db, .dbf, .dll, .ini, .log, .ora, .sys, and .zip.

F. Experiencing Technical Issues With Grants.gov

If interested parties experience difficulties at any point during the registration or application process, they should call the Grants.gov Customer Support Hotline at 1-800-518-4726, Monday-Friday from 7:00 a.m. to 9:00 p.m. Eastern Standard Time.

VII. Performance Measurement

Each applicant selected for AID Demonstration funding shall work with FHWA on the development and implementation of a plan to collect information and report on the project's performance with respect to the relevant outcomes that are expected to be achieved through the innovation in the project. Each recipient or subrecipient of AID Demonstration funding shall report on specified performance indicators for its project. Performance indicators will be identified for each project, and will consider the individual project's stated goals as well as resource constraints of the recipient or subrecipient. Performance indicators will not include formal goals or targets, but will include baseline measures as well as post-project outputs, and will inform the AID Demonstration program in working toward best practices, programmatic performance measures, and future decisionmaking guidelines. The recipient or subrecipient shall submit a final report to FHWA within 6 months of project completion which documents the process, benefits, and lessons learned including development and/or refinement of guidance, specifications or other tools and methods to support rapid adoption of the innovation(s) as standard practice.

VIII. Questions and Clarifications

For further information concerning this final notice please contact Ms. Ewa Flom, Program Manager, Center for Accelerating Innovation, (202) 366-2169, or Ms. Seetha Srinivasan, Office of the Chief Counsel, (202) 366-4099, Federal Highway Administration, 1200 New Jersey Avenue SE., Washington, DC 20590. Office hours are from 8 a.m. to 4:30 p.m., e.t., Monday through Friday, except Federal holidays. A TDD is available for individuals who are deaf or hard of hearing at (202) 366-3993.

In addition, FHWA will post answers to questions and requests for clarifications on FHWA's Web site at http://www.fhwa.dot.gov/accelerating/grants. Applicants and subrecipients are encouraged to contact FHWA directly to receive information about AID Demonstration.

Authority: Section 52003 of Pub. L. 112-141; 23 U.S.C. 503.

Issued on: January 24, 2014.
Gregory G. Nadeau,
Deputy Administrator, Federal Highway Administration.

[FR Doc. 2014-03452 Filed 2-18-14; 8:45 am]

BILLING CODE 4910-22-P